Proclamation 7343 of September 17, 2000

Citizenship Day and Constitution Week, 2000

By the President of the United States of America

A Proclamation

In the spring of 1787, George Washington, Benjamin Franklin, Alexander Hamilton, James Madison, and other prominent leaders gathered once again in Philadelphia to offset a looming crisis in the life of our young democracy. The Articles of Confederation, a blueprint for government that they had hammered out in the Second Continental Congress in 1777, had proved too weak and ineffective to achieve a balance of power between the new Federal Government and the States. Rising to this fresh challenge, our founders crafted a new charter of government—the United States Constitution—that has proven to be a masterpiece of political philosophy.

Wise about human nature and wary of unlimited power, the authors of our Constitution created a government where power resides not with one person or institution but with three separate and equal branches of government. It guarantees for our citizens the right and responsibility to choose leaders through free elections, giving Americans the means to enact political change without resorting to violence, insurrection, or revolution. And, with its carefully crafted system of checks and balances, the Bill of Rights, and its process of amendment, the Constitution maintains an inspired balance between authority and freedom and between the ideals of unity and individual rights.

For more than 200 years the Constitution has provided our Nation with the resilience to survive trying times and the flexibility to correct past injustices. At every turning point in our history, the letter and spirit of the Constitution have enabled us to reaffirm our union and expand the meaning of liberty. Its success can be measured by the millions of people who have left their homelands over the past two centuries to become American citizens. Its influence can be measured by the number and vigor of new democracies springing up across the globe.

In giving us the Constitution, our founders also gave us a powerful example of citizenship. They were deeply involved in governing our Nation and passionately committed to improving our society. The rights we sometimes take for granted today were secured by their courage and by the blood of patriots during the Revolutionary War. As we observe Citizenship Day and Constitution Week, let us remember that with the many gifts bestowed on us by the Constitution comes the responsibility to be informed and engaged citizens; to take an active role in the civic life of our communities and our country; and to uphold the ideals of unity and liberty that have sustained us since our earliest days as a Nation.

In commemoration of the signing of the Constitution and in recognition of the importance of active, responsible citizenship in preserving the Constitution's blessings for our Nation, the Congress, by joint resolution of February 29, 1952 (36 U.S.C. 106), designated September 17 as “Citizenship Day,” and by joint resolution of August 2, 1956 (36 U.S.C. 108), requested that the President proclaim the week beginning September 17 and ending September 23 of each year as “Constitution Week.”

NOW, THEREFORE, I, WILLIAM J. CLINTON, President of the United States of America, do hereby proclaim September 17, 2000, as Citizenship Day and September 17 through September 23, 2000, as Constitution Week. I call upon Federal, State, and local officials, as well as leaders of civic, educational, and religious organizations, to conduct meaningful ceremonies and programs in our schools, houses of worship, and other community centers to foster a greater understanding and appreciation of the Constitution and the rights and duties of citizenship. I also call on all citizens to rededicate themselves to the principles of the Constitution.

IN WITNESS WHEREOF, I have hereunto set my hand this seventeenth day of September, in the year of our Lord two thousand, and of the Independence of the United States of America the two hundred and twenty-fifth.

wj

[FR Doc. 00-24256

Filed 9-18-00; 11:18 am]

Billing code 3195-01-P